NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW, Washington, DC 20594-0001, (202) 314-6233.

SUPPLEMENTARY INFORMATION: Section 4314(c)(1) through (5) of Title 5, United States Code requires each agency to establish, in accordance with regulations prescribed by the Office of Personnel Management, one or more SES Performance Review Boards (PRB). The board reviews and evaluates the initial appraisal of a senior executive's performance by the supervisor and considers recommendations to the appointing authority regarding the performance of the senior executive.

The following have been designated as members of the 2021 Performance Review Board of the National Transportation Safety Board (NTSB):

Ms. Dolline Hatchett, Director, Office of Safety Recommendations and Communications, National Transportation Safety Board, PRB Chair

Mr. Robert Molloy, Director, Office of Highway Safety, National Transportation Safety Board

Mr. Timothy LeBaron, Acting Director, Office of Aviation Safety, National Transportation Safety Board

Mr. Jerold Gidner, Director, Bureau of Trust Funds Administration, U.S. Department of Interior

Ms. Katherine Herrera, Deputy Technical Director, Defense Nuclear Facilities Safety Board

Mr. James Ritter, Director, Office of Research and Engineering, National Transportation Safety Board (alternate)

Dated: November 2, 2021.
Candi R. Bing,
Federal Register Liaison.

[FR Doc. 2021-24292 Filed 11-4-21; 8:45 am]

BILLING CODE P